ENVIRONMENTAL PROTECTION AGENCY

[EPA-HQ-OECA-2009-0494; FRL-9752-9]

Proposed Information Collection Request; Comment Request; Tips and Complaints Regarding Environmental Violations

AGENCY: Environmental Protection Agency (EPA).

ACTION: Notice.

SUMMARY: The Environmental Protection Agency is planning to submit an information collection request (ICR), “Tips and Complaints Regarding Environmental Violations” (EPA ICR No. 2219.04, OMB Control No. 2020-0032) to the Office of Management and Budget (OMB) for review and approval in accordance with the Paperwork Reduction Act (44 U.S.C. 3501 et seq.). Before doing so, EPA is soliciting public comments on specific aspects of the proposed information collection as described below. This is a proposed extension of the ICR, which is currently approved through March 31, 2013. An Agency may not conduct or sponsor and a person is not required to respond to a collection of information unless it displays a currently valid OMB control number.

DATES: Comments must be submitted on or before January 18, 2013.

ADDRESSES: Submit your comments, referencing Docket ID No. EPA-HQ-OECA-20009-0494, online using www.regulations.gov (our preferred method), by email to docket.oeca@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Michael Le Desma; Legal Counsel & Resource Management Division; Office of Criminal Enforcement, Forensics and Training; Environmental Protection Agency, Building 25, Box 25227, Denver Federal Center, Denver, CO 80025; telephone number: (303) 462-9453; fax number: (303) 462-9075; email address: ledesma.michael@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the Paperwork Reduction Act, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The EPA tips and complaints web form is intended to provide an easy and convenient means by which members of the public can supply information to EPA regarding suspected violations of environmental law. The decision to provide a tip or complaint is entirely voluntary and use of the webform when supplying a tip or complaint is also entirely voluntary. Tippers need not supply contact information or other personal identifiers. Those who do supply such information, however, should know that this information may be shared by EPA with appropriate administrative, law enforcement, and judicial entities engaged in investigating or adjudicating the tip or complaint.

Form Numbers: None.

Respondents/affected entities: Respondents are expected to be members of the general public as well as employees of any company subject to federal environmental regulation. There is no specific industry or group of industries about which EPA expects tips or complaints.

Respondent's obligation to respond: voluntary.

Estimated number of respondents: 630 per month (total).

Frequency of response: generally, a one-time response.

Total estimated burden: 3,780 hours (per year). Burden is defined at 5 CFR 1320.03(b).

Total estimated cost: $75,146 (per year), includes $0 annualized capital or operation & maintenance costs.

Changes in estimates: There is expected to be an increase in the total estimated respondent burden compared with the ICR currently approved by OMB. This increase would reflect an increase in the number of tips and complaints being filed, not an increase in the time or burden associated with filing each tip or complaint. Growing awareness of the ease with which tips and complaints can be filed using the tips and complaints webform is expected to result in, perhaps, a 20% increase in usage.

Dated: November 6, 2012.
Cynthia J. Giles,
Assistant Administrator, Office of Enforcement and Compliance Assurance.

[FR Doc. 2012-28095 Filed 11-16-12; 8:45 am]

BILLING CODE 6560-50-P